DEPARTMENT OF HOUSING AND URBAN DEVELOPMENT

[Docket No. FR-7077-N-06]

Privacy Act of 1974; Matching Program

AGENCY: Office of Administration, HUD.

ACTION: Notice of new matching program.

SUMMARY: Pursuant to the Privacy Act of 1974, as amended by the Computer Matching and Privacy Act of 1988 and the Computer Matching and Privacy Protections Amendment of 1990 (Privacy Act), and Office of Management and Budget (OMB) guidance on the conduct of matching programs, notice is hereby given of the establishment of a matching program between the U.S. Department of Housing and Urban Development (HUD) and the state of Iowa, the state of California, the state of Louisiana, and the Commonwealth of the Northern Mariana Islands (CNMI).

DATES: Please submit comments on or before April 10, 2023. The matching program will be effective on April 10, 2023 unless comments have been received from interested members of the public that require modification and republication of the notice. The matching program will continue for 18 months from the beginning date and may be extended an additional 12 months if the conditions specified in 5 U.S.C. 552a(o)(2)(D) have been met.

ADDRESSES: Interested persons are invited to submit comments regarding this notice at www.regulations.gov or to the Rules Docket Clerk, Office of General Counsel, Department of Housing and Urban Development, 451 Seventh Street SW, Room 10110, Washington, DC 20410. Communications should refer to the above docket number. A copy of each communication submitted will be available for public inspection and copying between 8:00 a.m. and 5:00 p.m. weekdays at the above address.

FOR FURTHER INFORMATION CONTACT: To obtain additional information about this matching program and the contents of this Computer Matching Agreement between HUD and the state of Iowa, the state of California, the state of Louisiana, and the CNMI, please view this Computer Matching Agreement at the following website: https://www.hud.gov/program_offices/officeofadministration/privacy_act/cma.

For general questions about this matching program, contact Tennille Smith Parker, Director, Office of Disaster Recovery, U.S. Department of Housing and Urban Development, 451 7th Street SW, Room 7282, Washington, DC 20410, telephone number 202-708-3587. HUD welcomes and is prepared to receive calls from individuals who are deaf or hard of hearing, as well as individuals with speech or communication disabilities. To learn more about how to make an accessible telephone call, please visit: https://www.fcc.gov/consumers/guides/telecommunications-relay-service-trs. Facsimile inquiries may be sent to Ms. Parker at 202-708-0033. (Except for the”800” number, these telephone numbers are not toll-free.) Email inquiries may be sent to disaster_recovery@hud.gov.

SUPPLEMENTARY INFORMATION: HUD is providing this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-108, 81 FR 94424 (December 23, 2016).

To support the prevention and detection of duplication of benefits, HUD will request data from FEMA on an as-needed basis to share with Community Development Block Grant disaster recovery (CDBG-DR) grantees, and the grantees will use the data to detect and prevent the duplication of benefits. CDBG-DR grantees will conduct a duplication of benefits review for CDBG-DR grant-funded programs and activities. HUD's data request will be based on the specific program requirements specified in an approved CDBG-DR grantee action plan. CDBG-DR grantees will use FEMA data received through HUD to facilitate expedited program implementation while preventing the duplication of benefits already received from FEMA. All data sharing from HUD to CDBG-DR grantees will occur in accordance with agreements between HUD and the CDBG-DR grantees that address requirements related to the use and protection of the data.

Participating Agencies: U.S. Department of Housing and Urban Development (HUD), the state of Iowa, the state of California, the state of Louisiana, and the Commonwealth of the Northern Mariana Islands (CNMI).

Authority for Conducting the Matching Program: A. Robert T. Stafford Disaster Relief and Emergency Assistance Act (as amended at 42 U.S.C. 5155(a) et seq.) (Stafford Act), section 312, which requires each federal agency that administers any program providing financial assistance because of a major disaster or emergency to assure that no individual or entity receives duplicate financial assistance under any program, from insurance, or through any other source. The Stafford Act, 42 U.S.C. 5155(c), requires FEMA or HUD (whichever agency provided the duplicative assistance) to recover all duplicative assistance from the recipient when the head of such agency considers it to be in the best interest of the Federal Government.

B. Section 408(i) of the Stafford Act, 42 U.S.C. 5174(i), directs and authorizes FEMA, in carrying out Section 408 (Federal Assistance to Individuals and Households), to “develop a system, including an electronic database,” to: (a) Verify the identity and address of recipients of assistance to provide reasonable assurance that payments are made only to an individual or household that is eligible for such assistance, (b) Minimize the risk of making duplicative payments or payments for fraudulent claims, (c) Collect any duplicate payment on a claim or reduce the amount of subsequent payments to offset the amount of any such duplicate payment, (d) Provide instructions to recipients of assistance regarding the proper use of any such assistance, regardless of how such assistance is distributed, and (e) Conduct an expedited and simplified review and appeal process for an individual or household whose application for assistance is denied.

C. HUD imposes the requirements of the Stafford Act, section 312, on CDBG-DR grantees. Appropriations acts making CDBG-DR funds available, as listed in Section II.C.8 of the Computer Matching Agreement, require CDBG-DR grantees to have adequate procedures to prevent the duplication of benefits. HUD enforces these requirements on CDBG-DR grantees using its statutory and regulatory remedies for noncompliance in Section 111 of Title I of the Housing and Community Development of 1974 (42 U.S.C. 5311) and regulations at 24 CFR part 570 and 2 CFR part 200.

D. Executive Order 13411, “Improving Assistance for Disaster Victims,” 71 FR 52729 (August 29, 2006), calls on federal agencies to “reduce unnecessarily duplicative application forms and processes for Federal disaster assistance,” which includes processing benefits applications submitted by individuals, businesses, or other entities for the same disaster.

E. The President may authorize both emergency sheltering and Section 408 federal assistance to individuals and households, pursuant to either a major disaster under Section 403, at 42 U.S.C. 5170b, or an emergency under Section 502 of the Stafford Act, 42 U.S.C. 5192. Essential Assistance, pursuant to Section 403(a)(3)(B) of the Stafford Act, 42 U.S.C. 5170b, authorizes emergency sheltering, including both congregate and non-congregate sheltering, to meet the immediate needs of disaster survivors for a major disaster. Additionally, federal assistance where necessary to prevent human suffering under Section 502(a)(8) authorizes emergency sheltering for an emergency.

F. The Debt Collection Improvement Act of 1996, 31 U.S.C. 3325(d) and 7701(c)(1), which requires federal agencies to collect the Taxpayer Identification Number (TIN) or Social Security Number (SSN) of each person who receives payments from the Federal Government; and each person doing business with the Federal Government is required to furnish his or her TIN. For the purposes of 31 U.S.C. 7701, a person is doing business with the Federal Government if the person is: (1) A lender or servicer in a federal guaranteed or insured loan program administered by a federal agency, (2) An applicant for, or recipient of, a federal license permit, right-of-way, grant, or benefit payment administered by a federal agency, (3) A contractor of a federal agency, (4) Assessed a fine, fee, royalty, or penalty by a federal agency, or (5) In a relationship with a federal agency that may give rise to a receivable due to that agency such as a partner of a borrower in or a guarantor of a federal direct or insured loan administered by the federal agency. Each federal agency must inform each person required to disclose his or her TIN of the agency's intent to use such number for purposes of collecting and reporting on any delinquent amounts arising out of such person's relationship with the Federal Government.

G. The appropriations acts that authorize and appropriate supplemental CDBG-DR assistance lay out specific requirements, some of which may vary by appropriation. These appropriations acts impose requirements related to the (1) prevention of fraud, waste, and abuse, (2) order of assistance, and (3) prevention of duplication of benefits on HUD or its CDBG-DR grantees, as directed by the applicable act. The appropriations acts, listed below, also require HUD to make allocations based on a determination of unmet need in the “most impacted and distressed areas” resulting from major disasters.

Legal authority for CDBG-DR assistance is derived from Title I of the Housing and Community Development Act of 1974 (42 U.S.C. 5301 et seq.); subsequent appropriations acts making CDBG-DR assistance available; the following prior appropriations acts— Public Law 117-180, 117-43, 116-20, 115-254, 115-123, 115-56, 115-31, 114-254, 114-223, 114-113, 113-2, 112-55, 111-212, 110-329, 110-252, 110-116, 109-234, 109-148, 108-324, 107-206, 107-117, 107-73, 107-38, 106-31, 105-277, 105-276, 105-174, 105-18, 104-134, 104-19, 103-327, 103-211, 103-75, and 103-50—and by the notices published in the Federal Register that govern CDBG-DR grant assistance including the Updates to Duplication of Benefits Requirements Under the Stafford Act for Community Development Block Grant (CDBG) Disaster Recovery Grantees at 84 FR 28836 (June 20, 2019).

H. The HUD regulation at 24 CFR 982.352(c) prohibits a family from receiving the benefit of Section 8 tenant-based assistance under the Housing Choice Voucher Program while also receiving the benefit of any of the following forms of other housing subsidy for the same or a different unit:

1. Public or Indian housing assistance,

2. Section 8 assistance (including other tenant-based assistance) under Section 8 of the U.S. Housing Act of 1937, 42 U.S.C. 1437f,

3. Assistance under former Section 23 of the United States Housing Act of 1937 (before amendment by the Housing and Community Development Act of 1974),

4. Section 101 of the Housing and Urban Development Act of 1965, 12 U.S.C.1701s (Section 101 rent supplements),

5. Section 236 of the National Housing Act, 12 U.S.C.1715z-1 (Section 236 rental assistance payments),

6. Tenant-based assistance under the HOME Investment Partnerships Program (HOME) authorized by Title II of the Cranston-Gonzalez National Affordable Housing Act, 42 U.S.C. 12701 et seq.,

7. Rental assistance payments under Section 521 of the Housing Act of 1949, 42 U.S.C. 258 1441 et seq. (a program of the Rural Development Administration),

8. Any local or state rent subsidy,

9. Section 202 of the Housing Act of 1959, 12 U.S.C. 1701q, as amended (Section 202 supportive housing for the elderly),

10. Section 811 of the Cranston-Gonzalez National Affordable Housing Act, as amended, 42 U.S.C. 8013 (Section 811 supportive housing for persons with disabilities),

11. Section 202 projects for non-elderly persons with disabilities (Section 162 assistance) authorized by Section 162 of the Housing and Community Development Act of 1987, 12 U.S.C. 1701a note, amending Section 202(h) of the Housing Act of 1959, or

12. Any other duplicative federal, state, or local housing subsidy, as determined by HUD. For this purpose, “housing subsidy” does not include the housing component of a welfare payment, a Social Security payment received by the family, or a rent reduction because of a tax credit. (June 20, 2019).

Purpose(s): The Computer Matching Agreements describe the respective responsibilities of HUD and the state of Iowa, the state of California, the state of Louisiana, and the CNMI to determine and verify the accuracy of the data, eligibility for their respective benefits, and to preserve the confidentiality of information in accordance with the matching program. The requirements of the Computer Matching Agreements will be carried out by authorized users of the state of Iowa, the state of California, the state of Louisiana, and the CNMI (which include the grantees' authorized employees, and contractors). The agreements also describe the responsibilities of HUD, HUD's CDBG-DR grantees, and DHS-FEMA for other purposes, as described below.

The Computer Matching Agreements establish the terms and conditions governing the CDBG-DR grantees access to, and use of FEMA's Individual Assistance (IA), Individual's and Household Program data. All FEMA program data that HUD provides to CDBG-DR grantees will be shared via these Computer Matching Agreements between HUD and CDBG-DR grantees that reflect the requirements of the Computer Matching Agreement between FEMA and HUD. The data exchanged between HUD and CDBG-DR grantees will be used to support the duplication of benefits checks conducted by the grantee.

HUD will provide FEMA data to CDBG-DR grantees, pursuant to their separate Computer Matching Agreements, for them to use to determine the correct award amount for eligible program beneficiaries by identifying unmet needs of FEMA applicants; prevent the duplication of benefits; implement the statutory requirement that CDBG-DR funds may not be used for activities reimbursable by or for which funds are made available by FEMA; and implement the statutory requirement to establish procedures to detect and prevent waste, fraud, and abuse of funds.

Categories of Individuals: DHS/FEMA data in this matching program includes individuals that have applied for or expressed interest in disaster assistance. HUD data in this matching program concerns individuals who have applied for or received assistance via HUD assistance programs.

Categories of Records: Data elements disclosed by each agency in this matching program are as follows:

A. From DHS/FEMA to HUD:

• Name (First and Last of Applicant and Co-applicant)

• Date of Birth (Applicant and Co-Applicant)

• Social Security Number (last 4 of Applicant and Co-applicant)

• Phone Number (Applicant Alternate Phone Number, Applicant Current Phone Number, Co-applicant Current Phone Number)

• Email Address of Applicant

• Applicant Registration Number

• Current Mailing Address (Street, City, County, State, Zip Code)

• Current Location (as identified in applicant registration and applicant information screen)

• Damaged Dwelling Latitude and Longitude

• Damaged Address (Street, City, County, State, Zip Code + 4 Digit Ext.)

• Access and Functional Needs (Y/N)

• Household Member Age Range (Under 5 years, 5 to 17 years, 18 to 64 years, 65 and above)

• Number of Household Members

• Number of Dependents in Household

• Current Hotel (Name, Address, City, County)

• Initial Rental Assistance Approved Date

• Direct Housing First Licensed-In Date

• Last Continued Temporary Housing Assistance Date

• Small Business Administration (SBA) HAPP Referral Flag (Y/N)

• Census Block Group ID (if applicable)

• Cause(s) of Damage from Inspection

• Destroyed Flag (Y/N)

• Disaster Number

• Flood Zone

• High Water Mark Location

• High Water Depth in Inches

• Habitability Repairs Required (Y/N)

• Gross Income (as reported at Registration)

• Insurance Types (Insurance Code)

• Level of Damage

• Owner/Renter

• Personal Property Total FEMA Verified Loss (FVL)Amount

• Personal Property Flood Damage FVL Amount

• Real Property Total FVL Amount (Aggregated for all REAL PROPERTY FVL)

• Real Property Flood Damage FVL Amount

• Residence Type

• FEMA Inspection Completed (Y/N)

• Primary Residence (RI) (Yes/No)

• Household Member Age and Name (First and Last)

• Insurance Settlement Flood Amount

• Insurance Settlement Other Amount

• Non-Compliant with Flood Insurance Requirement NCOMP Flag (Y/N)

• Temporary Housing Unit (THU)—Latest Currently Licensed-In Date

• Total Housing Assistance Approved Amount (Aggregated Eligibility Amount)

• Total Housing Assistance Approved Flood Damage Amount

• Total Other Assistance Approved Amount (Aggregated Eligibility Amount)

• Total Other Assistance Flood Damage Approved Amount

• Total Other Needs Assistance Approved Amount (Aggregated Eligibility Amount)

• Total Other Needs Assistance Flood Damage Approved Amount

• Total Personal Property Assistance Approved Amount (Aggregated Eligibility Amount)

• Total Personal Property Assistance Flood Damage Amount

• Total Repair Assistance Approved Amount (Aggregated Eligibility Amount)

• Total Repair Assistance Flood Damage Amount

• Total Replacement Assistance Approved Amount (Aggregated Eligibility Amount)

B. From HUD to HUD Grantee:

• Alternate Current Contact Phone Number

• SBA Referral Flag (Y/N)

• Co-registrant Date of Birth

• Co-registrant First Name

• Co-registrant Last Name

• Co-registrant SSN

• Current Contact Phone Number

• Current Location

• Current Mailing 5 Digit Zip Code

• Current Mailing Address City

• Current Mailing Address Street

• Current Mailing State

• Current Mailing Zip 4 Digit Extension

• Damaged Dwelling Address County

• Damaged Dwelling Latitude

• Damaged Dwelling Longitude

• Damaged Dwelling Address 5 Digit Zip Code

• Damaged Dwelling Address City

• Damaged Dwelling Address Street

• Damaged Dwelling State

• Damaged Dwelling Zip Code 4 Digit Extension

• Dependents (Number in Household)

• Destroyed Flag (Y/N)

• Disaster Number

• FEMA Inspection Completed (Y/N)

• FEMA Registration Number

• Flood Zone

• Gross Income

• High Water Mark Location

• High Water Depth in Inches

• Household Member Age

• Household Member First Name

• Household Member Last Name

• Inspection Completion (Y/N)

• Insurance Settlement Flood Amount

• Insurance Settlement Other Amount

• Insurance Type (Insurance Code)

• NCOMP Flag (Y/N)

• Owner/Renter

• Personal Property Total FVL Amount (Aggregated for all PERSONAL PROPERTY FVL one field replaces all fields related to personal property damage) Personal Property Flood Damage FVL Amount

• Primary Residence (RI) (Yes/No)

• Real Property Total FVL Amount (Aggregated for all REAL PROPERTY FVL (one field replaces all fields related to real property damage) Real Property Flood Damage FVL Amount

• Registrant Date of Birth

• Registrant First Name

• Registrant Last 4 Digits of SSN

• Registrant Last Name

• Residence Type

• Temporary Housing Unit (THU)—Latest Currently Licensed-in Date

• Total Housing Assistance Approved Amount (Aggregated Eligibility Amount)

Total Housing Assistance Approved Flood Damage Amount

• Total Other Assistance Approved Amount (Aggregated Eligibility Amount)

Total Other Assistance Flood Damage Approved Amount

• Total Other Needs Assistance Approved Amount (Aggregated Eligibility Amount) Total Other Needs Assistance Flood Damage Approved Amount

• Total Personal Property Assistance Amount (Aggregated Eligibility Amount)

Total Personal Property Assistance Flood Damage Amount

• Total Repair Assistance Approved Amount (Aggregated Eligibility Amount)

Total Repair Assistance Flood Damage Amount

• Total Replacement Assistance Approved Amount (Aggregated Eligibility Amount)

System(s) of Records:

• DHS/FEMA-008 Disaster Recovery Assistance Files System of Records Notice, 78 FR 25282 (April 30, 2013), or as amended.

Bradley S. Jewitt,
Senior Agency Official for Privacy, Department of Housing & Urban Development.

[FR Doc. 2023-04953 Filed 3-9-23; 8:45 am]

BILLING CODE 4210-67-P